DEPARTMENT OF AGRICULTURE

Food and Nutrition Service

Agency Information Collection Activities: Proposed Collection; Comment Request—Form FNS-143, Claim for Reimbursement (Summer Food Service Program)

AGENCY: Food and Nutrition Service, USDA.

ACTION: Notice and request for comments.

SUMMARY: In accordance with the Paperwork Reduction Act of 1995, this notice invites the public to comment on the Food and Nutrition Service (FNS) use of Form FNS-143, Claim for Reimbursement. The Form is used to collect data to determine the amount of reimbursement sponsoring organizations participating in the Summer Food Service Program (SFSP) are eligible to receive.

DATES: To be assured of consideration, comments must be received by June 2, 2003.

ADDRESSES: Send comments or requests for copies of this information collection to Terry A. Hallberg, Chief, Program Analysis and Monitoring Branch, Child Nutrition Division, Food and Nutrition Service, USDA, 3101 Park Center Drive, Room 636, Alexandria, Virginia 22302.

Comments are invited on: (a) Whether the proposed collection of information is necessary for the proper performance of the functions of the agency, including whether the information will have practical utility; (b) the accuracy of the agency's estimate of the burden of the proposed collection of information; (c) ways to enhance the quality, utility and clarity of the information to be collected; and (d) ways to minimize the burden of the collection of information on respondents, including through the use of automated collection techniques or other forms of information technology.

All responses to this notice will be summarized and included in the request for OMB approval. All comments will also become a matter if public record.

FOR FURTHER INFORMATION CONTACT: Terry Hallberg, (703) 305-2590.

SUPPLEMENTARY INFORMATION: Title: Forms FNS-143, Claim for Reimbursement (Summer Food Service Program).

OMB Number: 0584-0041.

Expiration Date: March 31, 2003.

Type of Request: Extension of a currently approved collection.

Abstract: The SFSP claim for reimbursement form, FNS-143, is used to collect meal and cost data from sponsoring organizations whose participation in this program is administered directly by FNS Regional Offices (Regional Office Administered Programs or ROAP). FNS Regional offices directly administer participation in this program for sponsoring organizations in Virginia and Michigan. In order to determine the amount of reimbursement sponsoring organizations are entitled to receive for meals served, they must complete these forms. The completed forms are submitted to the Child Nutrition Payments Center at the FNS Mid-Atlantic Regional Office where they are entered into a computerized payment system. The payment system computes earned reimbursement.

Earned reimbursement in the SFSP is based on performance which is measured as an assigned rate for operations and for administration per meal served, with cost comparisons to actual operational and administrative costs. To fulfill the earned reimbursement requirements set forth in SFSP regulations issued by the Secretary of Agriculture (7 CFR 225.9), the meal and cost data must be collected on form FNS-143. These forms are an intrinsic part of the accounting system being used currently by the subject programs to ensure proper reimbursement as well as to facilitate adequate recordkeeping.

Estimate of Burden: Public reporting burden for this collection of information is estimated to average .5 hours per response.

Respondents: The respondents are sponsoring organizations participating in the SFSP under the auspices of the FNS ROAP.

Estimated Total Number of Respondents: 212.

Estimated Number of Responses Per Respondent: 4.

Estimated Hours Per Response: .5.

Estimated Total Annual Burden on Respondents: 424.

Dated: March 25, 2003.
George A. Braley,
Associate Administrator.

[FR Doc. 03-7589 Filed 3-31-03; 8:45 am]

BILLING CODE 3410-30-M